DEPARTMENT OF ENERGY

Federal Energy Regulatory Commission

[Docket No. EL05-56-000]

Connecticut Department of Public Utility Control, Complainant v. ISO New England and New England Power Pool, Respondent; Notice of Complaint

January 18, 2005.

Take notice that on January 14, 2005, Connecticut Department of Public Utility Control (CT DPUC), submitted a petition to the Commission for an order directing the New England Power Pool (NEPOOL) and ISO New England (ISO-NE) to amend the currently effective NEPOOL Open Access transmission Tariff (OATT) and the superseding OATT of the Regional Transmission Organization for New England (RTO-NE), approved by the Commission in ISO New England, Inc., 106 FERC ¶ 61,280 (2004). CT DPUC states that under the NEPOOL and RTO-NE OATT formula rates, certain local customers unjustly and unreasonably pay in advance for Pool Transmission Facilities (PTF) capital additions. CT DPUC further states that the PTF additions—as much as $3 billion in New England over the next five years—are necessary to realize regional, system-wide reliability and economic benefits, and the Commission has ordered such costs to be regionalized across New England. CT DPUC explains that the current NEPOOL tariff and the superceding RTO-NE tariff require some local customers to pay these regional costs up front to the extent they are not recovered in the regional OATT, with no reimbursement until the following year.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: February 7, 2005.

Magalie R. Salas,
Secretary.

[FR Doc. E5-301 Filed 1-25-05; 8:45 am]

BILLING CODE 6717-01-P